DEPARTMENT OF THE INTERIOR

Bureau of Land Management

[BLM_AK_FRN_PO#4820000251

Notice of Availability of the Record of Decision for the Final Supplemental Environmental Impact Statement for the Coastal Plain Oil and Gas Leasing Program, Alaska

AGENCY: Bureau of Land Management, Interior.

ACTION: Notice of availability.

SUMMARY: The Bureau of Land Management (BLM), Alaska State Office, announces the availability of the Record of Decision (ROD) for the Final Supplemental Environmental Impact Statement (SEIS) for the Coastal Plain Oil and Gas Leasing Program. The signature of the Acting Deputy Secretary of the Department of the Interior on the ROD constitutes the final decision of the Department, thereby completing the required National Environmental Policy Act process for implementing an oil and gas leasing program within the Coastal Plain of the Arctic National Wildlife Refuge.

DATES: The ROD was signed on December 8, 2024.

ADDRESSES: The ROD is available online at the BLM National Environmental Policy Act Register at https://eplanning.blm.gov/eplanning-ui/project/2015144/510. Printed copies of the ROD will also be available for public inspection upon publication of this notice at the following locations:

BLM Alaska Public Information Center, James M. Fitzgerald Federal Building, 222 West 7th Avenue, Anchorage, AK 99513, telephone: (907) 271-5960.

Alaska Resources Library & Information Services, 3211 Providence Drive, Suite 111, Anchorage, AK 99508, telephone: (907) 272-7547.

Printed copies can be provided upon request by contacting the BLM Alaska Public Information Center listed above.

FOR FURTHER INFORMATION CONTACT: At the BLM: Serena Sweet, Branch Chief of Planning and Project Management; telephone: 907-271-4345; email: ssweet@blm.gov, or Stephanie Kuhns, Acting District Manager, Arctic District; telephone: 907-474-2310; email: skuhns@blm.gov.

At the United States Fish and Wildlife Service (USFWS): Bobbie Jo Skibo, Strategic Conservation and Coastal Plain Coordinator; telephone: 907-441-1539; email: bobbiejo_skibo@fws.gov.

Individuals in the United States who are deaf, deafblind, hard of hearing, or have a speech disability may dial 711 (TTY, TDD, or TeleBraille) to access telecommunications relay services for contacting Ms. Sweet. Individuals outside the United States should use the relay services offered within their country to make international calls to the point-of-contact in the United States.

SUPPLEMENTARY INFORMATION: Section 20001 of Public Law 115-97 (https://www.govinfo.gov/content/pkg/PLAW-115publ97/pdf/PLAW-115publ97.pdf) requires the Secretary of the Interior, acting through the BLM, to establish and administer a competitive oil and gas program for the leasing, development, production, and transportation of oil and gas in and from the Coastal Plain area within the Arctic National Wildlife Refuge. The BLM was directed to manage the oil and gas leasing program on the Coastal Plain in a manner similar to lease sales under the Naval Petroleum Reserves Production Act of 1976 (including regulations). Section 20001 also requires the BLM to offer two lease sales by December 22, 2021 and 2024, respectively, and for each sale to offer at least 400,000 acres containing those areas that have the highest potential for discovery of hydrocarbons.

The ROD approves a program to carry out this statutory directive. By determining where and under what terms and conditions leasing will occur, the ROD takes into account the requirements of Public Law 115-97 and other applicable law. To inform this Decision, the BLM and United States Fish and Wildlife Service, as joint lead agencies, prepared the Coastal Plain Oil and Gas Leasing Program SEIS (Leasing SEIS). The ROD supersedes the original Coastal Plain leasing program ROD, issued in August 2020.

The ROD adopts Alternative D2 from the November 2024 Leasing SEIS to govern BLM's further administration of the Coastal Plain Oil and Gas Leasing Program. The ROD determines which lands to make available for leasing under the Coastal Plain program and the terms and conditions (i.e., lease stipulations and required operating procedures) to be applied to leases and authorizations for specific oil and gas activities.

(Authority: 40 CFR 1501.9(c)(5)(ii))

Steven Cohn,
State Director, Alaska.

[FR Doc. 2024-29346 Filed 12-12-24; 8:45 am]

BILLING CODE 4331-10-P